DEPARTMENT OF THE TREASURY

Submission for OMB Review; Comment Request

July 17, 2003.

The Department of the Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before August 29, 2003 to be assured of consideration.

Internal Revenue Service (IRS)

OMB Number: 1545-0228.

Form Number: IRS Form 6252.

Type of Review: Extension.

Title: Installment Sale Income.

Description: Information is needed to figure and report an installment sale for a casual or incidental sale of personal property, and a sale of real property by someone not in the business of selling real estate. Data is used to determine whether the installment sale has been properly reported and the correct amount of profit is included in income on the taxpayer's return.

Respondents: Business or other for-profit, individuals or households, not-for-profit institutions, Farms.

Estimated Number of Respondents/Recordkeepers: 782,848.

Estimated Burden Hours Per Respondent/Recordkeeper:

Recordkeeping—1 hr., 18 min.

Learning about the law or the form—24 min.

Preparing the form—1 hr., 0 min.

Copying, assembling, and sending the form to the IRS—20 min.

Frequency of Response: Annually.

Estimated Total Reporting/Recordkeeping Burden: 2,395,515 hours.

OMB Number: 1545-1826.

Form Number: IRS Form 8876.

Type of Review: Extension.

Title: Excise Tax on Structured Settlement Factoring Transactions.

Description: Form 8876 is used to report structured settlement transactions and pay the applicable excise tax.

Respondents: Business or other for-profit, Individuals or households.

Estimated Number of Respondents/Recordkeepers: 100.

Estimated Burden Hours Per Respondent/Recordkeeper:

Recordkeeping—3 hr., 6 min.

Learning about the law or the form—1 hr., 12 min.

Preparing and sending the form to the IRS—1 hr., 17 min.

Frequency of Response: On occasion.

Estimated Total Reporting/Recordkeeping Burden: 560 hours.

OMB Number: 1545-1833.

Revenue Procedure Number: Revenue Procedure 2003-37.

Type of Review: Extension.

Title: Documentation Provisions for Certain Taxpayers Using the Fair Market Value Method of Interest Expense Apportionment.

Description: Revenue Procedure 2003-37 describes documentation and information a taxpayer that uses the fair market value method of apportionment of interest expense may prepare and make available to the Service upon request in order to establish the fair market value of the taxpayer's assets to the satisfaction of the Commissioner as required by section 1.861-9T(g)(1)(iii). It also sets forth the procedures to be followed in the case of elections to use the fair market value method.

Respondents: Business or other for-profit.

Estimated Number of Respondents/Recordkeepers: 125.

Estimated Burden Hours Per Respondent/Recordkeeper: 5 hours.

Frequency of Response: On occasion.

Estimated Total Reporting/Recordkeeping Burden: 625 hours.

OMB Number: 1545-1834.

Revenue Procedure Number: Revenue Procedure 2003-39.

Type of Review: Extension.

Title: Section 1031 LKE (Like-Kind Exchanges) Auto Leasing Programs.

Description: Revenue Procedure 2003-39 provides safe harbors for certain aspects of the qualification under section 1031 of certain exchanges of property pursuant to LKE Programs for federal income tax purposes.

Respondents: Business or other for-profit.

Estimated Number of Respondents: 8,600.

Estimated Burden Hours Per Respondent: 1 hour.

Frequency of Response: On occasion.

Estimated Total Reporting Burden: 8,600 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Mary A. Able,
Departmental Reports Management Officer.

[FR Doc. 03-19288 Filed 7-29-03; 8:45 am]

BILLING CODE 4830-01-P